DEPARTMENT OF COMMERCE

Submission for OMB Review; Comment Request

The Department of Commerce will submit to the Office of Management and Budget (OMB) for clearance the following proposal for collection of information under the provisions of the Paperwork Reduction Act (44 U.S.C. Chapter 35).

Agency: Bureau of Industry and Security (BIS).

Title: Firearms Convention.

OMB Control Number: 0694-0114.

Form Number(s): N/A.

Type of Request: Regular submission.

Burden Hours: 485.

Number of Respondents: 970.

Average Hours per Response: 30 minutes.

Needs and Uses: The twenty-nine members of the Organization of American States (OAS), including the United States, signed the Inter-American Convention Against the Illicit Manufacturing of and Trafficking in Firearms Ammunition, Explosives, and Other Related Materials (Firearms Convention) in 1997. The existing body of federal laws in the United States, including the Export Administration Act of 1979 (EAA), is adequate to satisfy the Convention's provisions regarding requirements for legislation.

This collection is required by Sections 742.17 and 748.14 of the Export Administration Regulations (EAR), which are authorized by Section 15(b) of the EAA. There are currently two information collection requirements necessary to implement the Firearms Convention: (1) U.S. exporters to acquire an Import Certificate to support requests for licenses authorizing the export of firearms and related equipment to participating OAS countries; and (2) a licensing requirement for Firearms Convention items destined to Canada, a Convention Signatory. A license was not previously required for the export of such items to Canada. It is now necessary for exporters to Canada to obtain a license.

Affected Public: Businesses and other for-profit organizations.

Frequency: On occasion.

Respondent's Obligation: Required to obtain benefits.

OMB Desk Officer: Jasmeet Seehra, (202) 395-3123.

Copies of the above information collection proposal can be obtained by calling or writing Diana Hynek, Departmental Paperwork Clearance Officer, (202) 482-0266, Department of Commerce, Room 7845, 14th and Constitution Avenue, NW., Washington, DC 20230 (or via the Internet at dHynek@doc.gov).

Written comments and recommendations for the proposed information collection should be sent within 30 days of publication of this notice to Jasmeet Seehra, OMB Desk Officer, Jasmeet_K._Seehra@omb.eop.gov, or fax number (202) 395-5167.

Dated: April 7, 2009.
Gwellnar Banks,
Management Analyst, Office of the Chief Information Officer.

[FR Doc. E9-8228 Filed 4-9-09; 8:45 am]

BILLING CODE 3510-33-P